DEPARTMENT OF HEALTH AND HUMAN SERVICES

Administration for Children and Families

Proposed Projects

Title: Annual Report on Progress—University Centers for Excellence in Developmental Disabilities.

OMB No.: 0980-0162.

Description: In accordance with the Developmental Disabilities Assistance and Bill of Rights Act of 2000, University Centers (UCEDDs) are required to collect data to measure progress achieved in one or more areas of emphasis (child care, education and early intervention, employment, health, housing, recreation, transportation, quality assurance) through advocacy, capacity building, and systemic change activities. The Annual Report must indicate progress in terms of measures of improvement, consumer satisfaction, and collaboration across the State Developmental Disabilities Network.

Respondents: University Centers for Excellence in Developmental Disabilities.

ANNUAL BURDEN ESTIMATES
Instrument | Number of respondents | Number of responses per respondent | Average burden hours per response | Total burden hours
Annual Report on Progress—University Centers | 61 | 1 | 80 | 4,880
Estimated Total Annual Burden Hours |  |  |  | 4,880

In compliance with the requirements of Section 3506(c)(2)(A) of the Paperwork Reduction Act of 1995, the Administration for Children and Families in soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 21, 2004.
Robert Sargis,
Reports Clearance Officer.

[FR Doc. 04-14534 Filed 6-25-04; 8:45 am]

BILLING CODE 4184-01-M